COMMISSION ON CIVIL RIGHTS

Notice of Public Meeting of the Kentucky Advisory Committee; Correction.

AGENCY: Commission on Civil Rights.

ACTION: Notice; revision to meeting time.

SUMMARY: The Commission on Civil Rights published a notice in the Federal Register of Tuesday, April 21, 2020, concerning a meeting of the Kentucky Advisory Committee. The document contained a time that is now changed to a new time.

FOR FURTHER INFORMATION CONTACT: Carolyn Allen, (202) 602-2375, callen@usccr.gov

Correction: In the Federal Register of Tuesday, April 21, 2020, in FR Doc. 2020-08430, on pages 22125-22126, third column of 22125, correct the time to read: Tuesday, May 19, 2020 at 3:00 p.m. (EDT).

Dated: May 13, 2020.
David Mussatt,
Supervisory Chief, Regional Programs Unit.

[FR Doc. 2020-10580 Filed 5-15-20; 8:45 am]

BILLING CODE 6335-01-P